POSTAL SERVICE

39 CFR Part 111

Labeling List Updates

AGENCY: Postal Service™.

ACTION: Final rule.

SUMMARY: The Postal Service is amending Mailing Standards of the United States Postal Service, Domestic Mail Manual (DMM®) in various sections to eliminate 3 labeling lists (L003, L011, and L801) and redirect those sortations to labeling list L002, L005 or L009, as applicable, to commence the first phase of moving to shape-based labeling lists. Additionally, all language referencing “ADC/RPDC” will be revised to read as “ADC” in support of the ongoing realignment initiatives.

DATES: Effective: January 19, 2025.

FOR FURTHER INFORMATION CONTACT: Dale Kennedy at (202) 268-6592 or Doriane Harley at (202) 268-2537.

SUPPLEMENTARY INFORMATION: Shape-based mail and package processing is a fundamental premise of the Plant/Transportation Network Redesign underway in support of the 10-year Delivering For America plan. Deficiencies in the current labeling list framework offer the opportunity to align external (Commercial) mail preparation and entry as well as internal processing steps with a new shape-based approach to labeling lists.

In various sections, the DMM will continue to reference the AADC sort for labeling list L005 until a later date. Although the container label created using labeling list L005 will reflect SCF destination, mailpieces will receive SCF pricing as per the postage statement, when applicable.

The Postal Service will extend mailers a grace period for compliance with the labeling list changes until April 1, 2025. From April 2 through May 31, 2025, mailers must request an exception from PCSC to use data from the eliminated labeling lists. Files and data for the eliminated labeling lists will no longer be available after 5/31/25.

The Postal Service believes that this change will provide numerous benefits to mailers by deleting redundant lists, aligning existing lists, and synchronizing commercial mail preparation and entry with the opening of new USPS processing/entry points (with fewer errors and re-work).

The Postal Service adopts the described changes to Mailing Standards of the United States Postal Service, Domestic Mail Manual (DMM), incorporated by reference in the Code of Federal Regulations.

We will publish an appropriate amendment to 39 CFR part 111 to reflect these changes.

List of Subjects in 39 CFR Part 111

Administrative practice and procedure, Postal Service.

Accordingly, the Postal Service amends Mailing Standards of the United States Postal Service, Domestic Mail Manual (DMM), incorporated by reference in the Code of Federal Regulations as follows (see 39 CFR 111.1):

PART 111—[AMENDED]

1. The authority citation for 39 CFR part 111 continues to read as follows:

Authority: 5 U.S.C. 552(a); 13 U.S.C. 301-307; 18 U.S.C. 1692-1737; 39 U.S.C. 101, 401-404, 414, 416, 3001-3018, 3201-3220, 3401-3406, 3621, 3622, 3626, 3629, 3631-3633, 3641, 3681-3685, and 5001.

2. Revise the Mailing Standards of the United States Postal Service, Domestic Mail Manual (DMM) as follows:

Mailing Standards of the United States Postal Service, Domestic Mail Manual (DMM)

* * * * *

200 Commercial Letters, Cards, Flats, and Parcels

* * * * *

203 Basic Postage Statement, Documentation, and Preparation Standards

* * * * *

3.0 Standardized Documentation for First-Class Mail, Periodicals, USPS Marketing Mail, and Flat-Size Bound Printed Matter

* * * * *

3.2 Format and Content

* * * * *

d. For bundles on pallets, list these required elements:

* * * * *

[Revise the second and third sentences of item 3.2d(4) to read as follows:]

4. * * * Document sectional center facility/local processing center (SCF/LPC), area distribution center (ADC), or network distribution center/regional processing and distribution center (NDC/RPDC) pallets created as a result of bundle reallocation under 705.8.11, 705.8.12, or 705.8.13 by designating the protected pallet with an identifier of “PSCF” (for an SCF/LPC pallet), “PADC” (for an ADC pallet), or “PBMC” (for a NDC/RPDC pallet). * * *

* * * * *

3.3 Price Level Column Headings

* * * * *

b. Presorted First-Class Mail, barcoded and nonbarcoded Periodicals flats, nonbarcoded Periodicals letters, and machinable, nonmachinable and nonstandard USPS Marketing Mail:

PRICE ABBREVIATION

[Revise the paragraph beginning with ADC/RPDC to read as follows:]

ADC [USPS Marketing Mail nonmachinable letters, flats, and nonstandard parcels, and all Periodicals] AD

* * * * *

3.6.3 Entry Abbreviations

Use the price name or the authorized entry abbreviation in the listings in 3.0 and 207.17.4.2:

ZONE ABBREVIATION RATE EQUIVALENT

[Revise the paragraph beginning with ADC/RPDC to read as follows:]

ADC Outside-County, DADC

* * * * *

3.7 Bundle and Container Reports for Outside-County Periodicals Mail

* * * * *

3.7.2 Outside-County Container Report

The container report must contain, at a minimum, the following elements:

* * * * *

[Revise text of item 3.7.2(d) to read as follows:]

d. Container entry level (origin, destination delivery unit/sorting and delivery center [DDU/S&DC], destination sectional center facility/local processing center [DSCF/LPC] (letters/flats), destination sectional center facility/regional processing and distribution center [DSCF/RPDC] (parcels), destination area distribution center [DADC], or destination network distribution center/regional processing and distribution center [DNDC/RPDC]).

* * * * *

5.0 Letter and Flat Trays

* * * * *

5.6 Use of Flat Trays

* * * * *

5.6.2 Preparation for Flats in Flat Trays

All flat tray preparation is subject to these standards:

* * * * *

[Revise items 5.6.2(h) and (i) to read as follows:]

h. Pieces prepared as automation flats under the tray-based preparation option in 235.8.0 do not have to be grouped by 3-digit ZIP Code prefix in ADC trays or by ADC in mixed ADC trays if the mailing is prepared using an MLOCR/barcode sorter and standardized documentation is submitted.

i. When pieces in a Periodicals mailing remain after one or more full trays are prepared for a 5-digit scheme, 5-digit, 3-digit, SCF/LPC, or ADC destination, an additional tray to the destination must be prepared if the remaining pieces reach the required volume. If the remaining volume is below the required minimum, the pieces must be moved to the next tray level that meets the minimum volume.

* * * * *

7.0 Optional Endorsement Lines (OELs)

* * * * *

7.2 OEL Format

* * * * *

7.2.5 ZIP Code Information

* * * * *

Exhibit 7.2.5 OEL Labeling Lists

[Revise Exhibit 7.2.5 to read as follows:]

PROCESSING CATEGORY AND PRESORT TYPE | ADC/AADC | MIXED ADC/MIXED AADC
First-Class Mail
Letters, nonmachinable | L004 | L201, Column C
Letters, machinable | L005 | L201, Column C
Letters, automation | L005 | L201, Column C
Flats, nonautomation | L004 | L201, Column C
Flats, automation | L004 | L201, Column C
Periodicals ¹
Letters, nonbarcoded (nonautomation) | L004 | L009
Letters, barcoded (automation) | L005 | L009 ²
Flats, nonbarcoded | L004 | L201, L009
Flats, barcoded | L004 | L201, L009
Irregular parcels | L004 | L201, L009
USPS Marketing Mail ¹
Letters, nonmachinable | L004 | L009 ²
Letters, machinable | L005 | L009 ²
Letters, automation | L005 | L009 ²
Flats, nonautomation | L004 | L009
Flats, automation | L004 | L009
Bound Printed Matter ¹
Flats, nonbarcoded | L004 | L009
Flats, barcoded | L004 | L009
Irregular parcels | L004 | L009
Media Mail
Flats, nonautomation | L004 | L009
Irregular parcels | L004 | L004 ²
Library Mail
Flats, nonautomation | L004 | L009
Irregular parcels | L004 | L004 ²

1. For automation-compatible flats, label according to L007 for optional 5-digit scheme preparation.

2. L010 if mail entered by mailer at a destination ASF/RPDC or NDC/RPDC or for mail placed on an ASF/RPDC or NDC/RPDC pallet under 705.8.0.

* * * * *

207 Periodicals

* * * * *

18.0 General Mail Preparation

* * * * *

18.3 Presort Terms

Terms used for presort levels are defined as follows:

* * * * *

[Revise the text of 18.3(m) to read as follows:]

m. 3-digit scheme letters: the ZIP Code in the delivery address on all pieces begins with one of the 3-digit prefixes processed by the USPS as one scheme, as shown in L002 column B (records with S).

* * * * *

[Revise the text of 18.3(r) to read as follows:]

r. ADC/AADC: all pieces are addressed for delivery in the service area of the same area distribution center (ADC) or automated area distribution center (AADC) (see L004 or L005).

* * * * *

18.4 Mail Preparation Terms

For purposes of preparing mail:

* * * * *

[Revise the first sentence of 18.4(p) to read as follows:]

p. A 3-digit scheme sort for letters yields 3-digit scheme trays for those 3-digit ZIP Code prefixes listed in L002 column B (records with S) and 3-digit trays for other areas.* * *

* * * * *

aa. Machinable flats are:

[Revise the text of item 18.4.aa(1) to read as follows:]

1. Flat-size pieces meeting the standards in 201.6.0 that are sorted into 5-digit, 3-digit, ADC, and mixed ADC bundles. These pieces are compatible with processing on the AFSM 100.

* * * * *

22.0 Preparing Nonbarcoded (Presorted) Periodicals

* * * * *

22.5 Letter Tray Preparation—Letter-Size Pieces

Preparation sequence, tray size, and labeling:

* * * * *

[Revise item 22.5(d)(1) to read as follows:]

d. Mixed ADC: required (no minimum).

1. Line 1: Use L009, Column B.* * *

* * * * *

22.6 Sack Preparation

* * * * *

[Revise the first paragraph of item 22.6(e) to read as follows:]

e. ADC, required at 72 pieces, optional at 24 pieces minimum.* * *

* * * * *

22.7 Tray Preparation—Flat-Size Nonbarcoded Pieces

* * * * *

[Revise the first paragraph of item 22.7(f) to read as follows:]

f. ADC, required at 72 pieces, optional at 24 pieces minimum.* * *

24.0 Preparing Letter-Size Barcoded (Automation) Periodicals

* * * * *

24.2 Additional Standards

24.2.1 Preparing Barcoded Price Letters

Tray size, preparation sequence, and Line 1 labeling:

* * * * *

[Revise items 24.2.1(c) and (d) to read as follows:]

c. AADC: required (150-piece minimum); overflow allowed; group pieces by 3-digit ZIP Code prefix (or 3-digit/scheme if applicable); for Line 1, use L005, Column B.

d. Mixed AADC: required (no minimum); group pieces by AADC; for Line 1, use L009, Column B.

* * * * *

25.0 Preparing Flat-Size Barcoded (Automation) Periodicals

25.1 Basic Standards

* * * * *

25.1.7 Exception—Barcoded and Nonbarcoded Flats on Pallets

* * * * *

[Revise the second sentence of item 25.1.7(c) to read as follows:]

c. * * * The nonbarcoded price pieces that cannot be placed on ADC or finer pallets may be prepared as flats in flat trays and paid for at nonbarcoded prices.

* * * * *

25.4 Sacking and Labeling

* * * * *

[Revise the first paragraph of item 25.4(e) to read as follows:]

e. ADC, required at 72 pieces, optional at 24 pieces; fewer pieces not permitted; labeling: * * *

* * * * *

25.5 Tray Preparation—Flat-Size Barcoded Pieces

* * * * *

[Revise the first paragraph of item 25.5(f) to read as follows:]

f. ADC (required), 72-piece minimum, optional at 24 pieces, fewer pieces not permitted, no overflow tray allowed; labeling: * * *

* * * * *

29.0 Destination Entry

* * * * *

29.2 Destination Network Distribution Center/Regional Processing and Distribution Center

* * * * *

29.2.2 Price Eligibility

DNDC container prices apply as follows:

[Revise item 29.2.2(a) to read as follows:]

a. Pieces must be prepared in bundles or in sacks or trays on ADC or more finely presorted pallets under 705.8.0.

* * * * *

29.3 Destination Area Distribution Center

* * * * *

29.3.2 Price Eligibility

The following apply:

a. Determine price eligibility for pound prices as follows:

1. Outside-County pieces are eligible for DADC pound prices when:

[Revise items 29.3.2.a1(a) and 29.3.2.a1(b) to read as follows:]

(a) Placed on an ADC or more finely presorted container;

(b) Deposited at an ADC (or USPS-designated facility); and * * *

[Revise items 29.3.2(b) to read as follows:]

b. Pieces must be prepared in bundles or in sacks or trays on ADC or more finely presorted pallets under 705.8.0.

* * * * *

235 Mail Preparation

1.0 General Definition of Terms

* * * * *

1.3 Terms for Presort Levels

1.3.1 Letters and Cards

Terms used for presort levels are defined as follows:

* * * * *

[Delete item (e) and renumber items (f) through (k) as (e) through (j):]

* * * * *

[Revise the text of newly renumbered item 1.3.1(g) to read as follows:]

g. ADC/AADC: all pieces are addressed for delivery in the service area of the same area distribution center (ADC) or automated area distribution center (AADC) (see L004 or L005).

* * * * *

1.3.2 Flats

Terms used for presort levels are defined as follows:

[Revise item 1.3.2(e) to read as follows:]

e. Mixed ADC: The pieces are for delivery in the service area of more than one ADC.

1.4 Preparation Definitions and Instructions

For purposes of preparing mail:

* * * * *

[Delete item (g) and renumber items (h) through (p) as (g) through (o):]

* * * * *

[Revise the text of newly renumbered item 1.4(g) to read as follows:]

g. An origin 3-digit tray contains all mail (regardless of quantity) for a 3-digit ZIP Code area processed by the SCF/LPC in whose service area the mail is verified. If more than one 3-digit area is served, as shown in L005, a separate tray must be prepared for each. A tray may be prepared for each 3-digit area served by the SCF/LPC/plant where mail is entered (if that differs from the SCF/LPC/plant serving the Post Office where the mail is verified). In all cases, only one less-than-full tray may be prepared for each 3-digit area.

* * * * *

5.0 Preparing Nonautomation Machinable Letters

* * * * *

5.2 Machinable Preparation

* * * * *

5.2.2 Traying and Labeling

Preparation sequence, tray size, and labeling:

a. AADC origin trays required, with pieces grouped by 3-digit ZIP Code prefix; no minimum piece requirement; one less-than-full tray permitted; labeling:

[Revise item 5.2.2(a)(1) to read as follows:]

1. Line 1: L005. * * *

b. AADC (required); full trays (no overflow), with pieces grouped by 3-digit ZIP Code prefix; labeling:

[Revise item 5.2.2(b)(1) to read as follows:]

a. Line 1: L005. * * *

* * * * *

6.0 Preparing Automation Letters

* * * * *

6.5 Tray Preparation

* * * * *

[Revise the text of item 6.5(b) to read as follows:]

b. AADC: optional, but required for AADC price (150-piece minimum except no minimum for origin entry AADC); overflow allowed; group pieces by 3-digit ZIP Code. For Line 1, use L005, Column B.

* * * * *

8.0 Preparation of Automation Flats

* * * * *

8.6 First-Class Mail Optional Tray-Based Preparation

Tray size, preparation sequence, and Line 1 labeling:

* * * * *

[Revise the second sentence of item 8.6(d) to read as follows:]

d. * * * (ZIP Code prefixes in Column A must be combined and labeled to the corresponding ADC destination shown in Column B). * * *

* * * * *

240 Commercial Mail USPS Marketing Mail

243 Prices and Eligibility

* * * * *

5.0 Additional Eligibility Standards for Nonautomation USPS Marketing Mail Letters, Flats, and Presorted USPS Marketing Mail Parcels

* * * * *

5.6 Nonautomation Price Application—Flats

* * * * *

5.6.5 ADC Prices for Flats

ADC prices apply to flat-size pieces:

[Revise item 5.6.5(a) to read as follows:]

a. In a 5-digit/scheme, 3-digit/scheme, or ADC bundle of 10 or more pieces properly placed in an ADC flat tray (see 245.1.4).

* * * * *

[Revise item 5.6.5(c) to read as follows:]

c. When palletized under 705.8.0 and 705.10.0 through 705.13.0, in an ADC bundle of 10 or more pieces; properly placed on an ADC pallet.

* * * * *

245 Mail Preparation

1.0 General Information for Mail Preparation

* * * * *

1.3 Terms for Presort Levels

1.3.1 Letters

Terms used for presort levels are defined as follows:

* * * * *

[Revise item 1.3.1(e) to read as follows:]

e. Origin/entry AADC: the ZIP Code in the delivery address on all pieces is addressed for delivery service area of the same automated area distribution center (AADC) (see L005).

* * * * *

[Revise item 1.3.1(i) to read as follows:]

i. ADC/AADC: all pieces are addressed for delivery in the service area of the same area distribution center (ADC) or automated area distribution center (AADC) (see L004 or L005).

* * * * *

1.3.2 Flats

Terms used for presort levels are defined as follows:

* * * * *

[Revise item 1.3.2(p) to read as follows:]

p. Mixed ADC: the pieces are for delivery in the service area of more than one ADC.

* * * * *

1.4 Preparation Definitions and Instructions

For purposes of preparing mail:

* * * * *

[Delete item (p) and renumber items (q) through (z) as (p) through (y):]

* * * * *

5.0 Preparing Nonautomation Letters

* * * * *

5.3 Machinable Preparation

* * * * *

5.3.2 Traying and Labeling

* * * * *

[Revise item 5.3.2(a)(1) to read as follows:]

a. AADC Origin Tray (optional, no minimum); labeling:

1. Line 1: L005, Column B. * * *

[Revise item 5.3.2(b)(1) to read as follows:]

b. AADC (optional, but required for AADC price); 150-piece minimum (overflow allowed); group pieces by AADC when overflow pieces from AADC trays are placed in mixed AADC trays; labeling:

1. Line 1: L005, Column B. * * *

[Revise item 5.3.2(c)(1) to read as follows:]

c. Mixed AADC (required); no minimum; labeling:

1. Line 1: L009, Column B. Use L010, Column B, if entered at an ASF/NDC/RDPC or for mail placed on an ASF/NDC/RDPC, or SCF/LPC pallet under the option in 705.8.10.3. * * *

* * * * *

5.4 Nonmachinable Preparation

* * * * *

5.4.2 Traying and Labeling

* * * * *

[Revise item 5.4.2(d)(1) to read as follows:]

d. Mixed ADC (required); no minimum; labeling:

1. Line 1: L009, Column B. Use L010, Column B, if entered at an ASF/NDC/RPDC or for mail placed on an ASF/NDC/RPDC, or SCF/LPC pallet under the option in 705.8.10.3. * * *

* * * * *

5.5 Residual Pieces

* * * * *

[Revise item 5.5(a) to read as follows:]

a. Line 1: Use L009, Column B. * * *

* * * * *

7.0 Preparing Automation Letters

* * * * *

7.5 Tray Preparation

* * * * *

[Revise the last sentence of 7.5(b) to read as follows:]

b. * * * For Line 1, use L005, Column B.

[Revise the second sentence of 7.5(c) to read as follows:]

c. * * * For Line 1 labeling: use L009, Column B. * * *

* * * * *

8.0 Preparing Nonautomation Flats

* * * * *

8.3 Bundling and Labeling

* * * * *

[Revise the text of items (c) and (d) to read as follows:]

c. 3-digit scheme (required for flats meeting the automation-compatibility standards in 201.6.0), see definition in 1.4p; 10-piece minimum; green Label 3 SCH, or OEL.

d. 3-digit (required), see definition in 1.4p; 10-piece minimum; green Label 3 or OEL.

* * * * *

266 Enter and Deposit

* * * * *

4.0 Destination Network Distribution Center (DNDC)/Regional Processing and Distribution Center (DRPDC) Entry

* * * * *

4.5 Presorted Nonstandard Parcels

[Revise the second sentence of 4.5 to read as follows:]

* * * All pieces in an ADC sack or in a palletized ADC bundle are eligible for the DNDC price if the ADC facility ZIP Code (as shown in Line 1 of the corresponding sack label or the ADC facility that is the destination of the palletized ADC bundle as would be shown on an ADC sack label for that facility using L004, Column B) is within the service area of the NDC/RPDC where the sack is deposited. * * *

* * * * *

5.0 Destination Sectional Center Facility (DSCF)/Local Processing Center (LPC) Entry

5.1 Eligibility

Bound Printed Matter pieces in a mailing meeting the standards in 3.0 are eligible for the DSCF price when they meet all of the following additional conditions:

[Revise the last sentence of 5.1(c) to read as follows:]

c. * * * This includes sacks labeled to an ADC facility with the exact same service area as the DSCF/LPC/RPDC.

* * * * *

275 Mail Preparation

* * * * *

6.0 Preparing Media Mail and Library Mail Parcels

* * * * *

6.3 Preparing Nonstandard Parcels

* * * * *

6.3.4 Sacking and Labeling

Preparation sequence and labeling:

* * * * *

d. Mixed ADC: required (no minimum).

[Revise 6.3.4(1) to read as follows:]

1. Line 1: Use “MXD” followed by city, state, and ZIP Code of ADC serving 3-digit ZIP Code prefix of entry Post Office, as shown in L004. If placed on an ASF/NDC/RPDC pallet under option in 705.8.10.5, use L010. * * *

* * * * *

705 Advanced Preparation and Special Postage Payment Systems

* * * * *

8.0 Preparing Pallets

* * * * *

8.5 General Preparation

8.5.1 Presort

The following apply:

* * * * *

[Revise items 8.5.1(d) through (f) to read as follows:]

d. For sacks, trays, or machinable parcels on pallets, the mailer must prepare all required pallet levels before any mixed ADC or mixed NDC/RPDC pallets are prepared for a mailing or job.

e. Except as described in 15.1.3f, bundles must not be placed on mixed ADC or mixed NDC/RPDC pallets. Bundles that cannot be placed on pallets must be prepared in sacks under the standards for the price claimed.

f. The standards for bundle reallocation to protect the SCF/LPC (sectional center facility/local processing center) (letters, flats)/RPDC (parcels), ADC, or NDC/RPDC pallet (8.11, 8.13, and 8.14) are optional methods of pallet preparation designed to retain as much mail as possible at the SCF/LPC (letters, flats)/RPDC (parcels), ADC, or NDC/RPDC level.

* * * * *

8.5.2 Required Preparation

The following standards apply to Periodicals, USPS Marketing Mail, Parcel Select, and Package Services, except Parcel Select mailed at DSCF and DDU prices:

[Revise items 8.5.2(b) and (c) to read as follows:]

b. For bundles of flat-size mailpieces or bundles of nonstandard parcels on pallets, after preparing all possible pallets under 8.5.2a, when 250 or more pounds of bundles remain for an ADC (Periodicals) or for an NDC/ASF/RPDC (USPS Marketing Mail, Parcel Select, and Package Services), mailers must prepare the ADC/RPDC or NDC/ASF/RPDC pallet, as applicable for the class of mail. Exception: If no ADC or NDC/ASF/RPDC pallets are in a mailing and 250 or more pounds remain for an SCF/LPC (letters, flats)/RPDC (parcels), mailers must prepare the SCF/LPC (letters, flats)/RPDC (parcels) pallet.

c. Bundles that cannot be placed on an ADC, NDC/ASF/RPDC, or SCF/LPC (letters, flats)/RPDC (parcels) pallet may be placed on mixed ADC pallets if allowed by the specific standards for the class and shape of mail, or be placed in sacks or flat trays (when applicable) (see 8.9.1).

8.5.3 Minimum Load

The following minimum load standards apply to mail prepared on pallets:

* * * * *

4. A pallet may contain a minimum of 100 pounds of nonletter-size mail or 12 linear feet of letter trays if it is:

[Revise 8.5.3(4b) to read as follows:]

(b) An ADC pallet entered at the destination ADC;

[Revise 8.5.3(4d) to read as follows:]

(d) The only pallet entered at an individual destination NDC/RPDC or ASF/RPDC, ADC, or SCF/LPC (letters, flats)/RPDC (parcels) facility.

* * * * *

8.6 Pallet Labels

* * * * *

8.6.4 Line 1 (Destination Line)

Line 1 (destination line) must meet these standards:

* * * * *

[Revise the first sentence of 8.6.4(b) to read as follows:]

b. Information. Line 1 must contain only the information specified by standard, including the appropriate destination facility prefix (e.g., “ADC”). * * *

* * * * *

8.6.10 Pallet Bundle Information

[Revise 8.6.10 to read as follows:]

It is recommended that mailers preparing bundles on pallets add to the pallet label, below the office of mailing or mailer information line and according to the provisions of 8.6.8, additional information listing the number of bundles for each bundle sortation and price level on the pallet (i.e., the number of carrier route bundles, the number of 5-digit, 3-digit, and ADC automation price bundles, and the number of 5-digit, 3-digit, and ADC Presorted price bundles on each pallet).

8.10 Pallet Presort and Labeling

8.10.1 First-Class Mail—Letter Trays or Flat Trays

* * * * *

[Revise the third and fourth sentences of 8.10.1(b) to read as follows:]

b. Origin SCF/LPC (local mail). Required; no minimum. Pallets contain trays destined for the 3-digit ZIP Codes serviced by the origin SCF/LPC facility in L005; all MXD AADC and MXD ADC trays. Mailers may place AADC or ADC trays on origin SCF/LPC pallets when the tray's “label to” 3-digit ZIP Code (L005 for AADC trays and L004 for ADC trays) is within the origin SCF's/LPC's service area; and must place trays containing pieces paid at the single-piece price on origin SCF/LPC pallets, unless required to be presented separately by special postage payment authorization or customer service agreement (CSA). * * *

[Revise the fifth sentence of item 8.10.1(c) to read as follows:]

c. * * * Mailers may, at their option, place AADC or ADC trays on SCF/LPC pallets when the tray's “label to” 3-digit ZIP Code (L005 for AADC trays and L004 for ADC) is within that SCF's/LPC's service area. * * *

[Revise the fourth sentence of item 8.10.1(d) to read as follows:]

d. * * * Pallet may contain letter trays only for the 3-digit ZIP Code group in L005. * * *

[Revise item 8.10.1(d)(1) to read as follows:]

1. Line 1: L005, Column B. * * *

[Revise the first sentence of item 8.10.1(e) to read as follows:]

e. ADC. * * *

* * * * *

[Revise the introductory text of 8.10.1(g) to read as follows:]

g. Mixed ADC Air (all other). Required; no minimum. May contain surface trays when no mixed ADC surface container is prepared under 8.10.1f. Labeling:

* * * * *

8.10.2 Periodicals—Bundles, Sacks, Letter or Flat Trays

* * * * *

[Revise the third sentence of 8.10.2(h) to read as follows:]

h. * * * Mailers may place origin mixed ADC (OMX) sacks (nonstandard parcels only) or flat trays on origin SCF/LPC (letters, flats)/RPDC (parcels) pallets. * * *

[Revise the first sentence of 8.10.2(i) to read as follows:]

i. ADC, required, permitted for bundles, trays, and sacks (nonstandard parcels only). * * *

[Revise the first sentence of 8.10.2(j) to read as follows:]

j. Origin Mixed ADC (OMX), optional for sacks and trays; allowed with no minimum and required at 100 pounds of mail for bundles of flats. * * *

[Revise the first and fourth sentence of 8.10.2(k) to read as follows:]

k. Mixed ADC, optional for sacks and trays; allowed with no minimum and required at 100 pounds of mail for bundles of flats. * * * Pallets must not contain sacks, trays or bundles that should be properly placed on the origin mixed ADC (OMX) pallet. * * *

* * * * *

8.10.3 USPS Marketing Mail—Bundles, Sacks, or Trays

* * * * *

[Revise the third and fourth sentences of item 8.10.3(f) to read as follows:]

f. * * * Mailers may, at their option, place AADC trays on SCF/LPC (letters, flats)/RPDC (parcels) pallets when the tray's “label to” 3-digit ZIP Code (L005) is within that SCF's/LPC's (letters, flats)/RPDC's (parcels) service area. Mailers may also, at their option, place mixed ADC or mixed AADC trays, labeled per L010, on an SCF/LPC pallet entered at the SCF/LPC facility responsible for processing mixed ADC or mixed AADC trays for that NDC/ASF/RPDC facility. * * *

[Revise the third through sixth sentences of item 8.10.3(g) to read as follows:]

g. * * * ADC bundles, sacks, or trays are assigned to pallets according to the “label to” ZIP Code in L004 as appropriate. AADC trays are assigned to pallets according to the “label to” ZIP Code in L005. At the mailer's option, appropriate mixed ADC bundles and trays of flats—and mixed ADC and mixed AADC trays of letters—may be sorted to ASF/RPDC pallets according to the “label to” ZIP Code in L010. All mixed ADC bundles, sacks, and trays and mixed AADC trays must contain only pieces destinating within the ASF/RPDC as shown in L602. * * *

[Revise the third through sixth sentences of item 8.10.3(h) to read as follows:]

h. * * * ADC bundles, sacks, or trays are assigned to pallets according to the “label to” ZIP Code in L004 as appropriate. AADC trays are assigned to pallets according to the “label to” ZIP Code in L005. At the mailer's option, appropriate mixed ADC bundles and trays of flats, and mixed ADC trays and mixed AADC trays of letters, may be sorted to NDC/RPDC pallets according to the “label to” ZIP Code in L010. All mixed ADC bundles, sacks, and trays and mixed AADC trays must contain only pieces destinating within the NDC/RPDC as shown in L601 as appropriate. * * *

* * * * *

8.10.4 Package Services Flats—Bundles and Sacks

* * * * *

[Revise the third through fifth sentences of 8.10.4(f) to read as follows:]

f. * * * ADC bundles or sacks are assigned to pallets according to the “label to” ZIP Code in L004. At the mailer's option, appropriate mixed ADC bundles or sacks may be sorted to ASF/RPDC pallets according to the “label to” ZIP Code in L010. All mixed ADC bundles and sacks must contain only pieces destinating within the ASF/RPDC as shown in L602. * * *

* * * * *

[Revise the third through fifth sentences of 8.10.4(g) to read as follows:]

g. * * * ADC bundles or sacks are assigned to pallets according to the “label to” ZIP Code in L004. At the mailer's option, appropriate mixed ADC bundles or sacks may be sorted to NDC/RPDC pallets according to the “label to” ZIP Code in L010. All mixed ADC bundles and sacks must contain only pieces destinating within the NDC/RPDC as shown in L601. * * *

* * * * *

8.10.5 Package Services Nonstandard Parcels—Bundles and Sacks

* * * * *

[Revise the third through fifth sentences of 8.10.5(i) to read as follows:]

i. * * * ADC bundles or sacks are assigned to pallets according to the “label to” ZIP Code in L004. At the mailer's option, appropriate mixed ADC bundles or sacks may be sorted to ASF/RPDC pallets according to the “label to” ZIP Code in L010. All mixed ADC bundles and sacks must contain only pieces destinating within the ASF/RPDC as shown in L602. * * *

* * * * *

[Revise the third through fifth sentences of 8.10.5(j) to read as follows:]

j. * * * ADC (L004) bundles or sacks are assigned to pallets according to the “label to” ZIP Code in L004. At the mailer's option, appropriate mixed ADC bundles or sacks may be sorted to NDC/RPDC pallets according to the “label to” ZIP Code in L010. All mixed ADC bundles and sacks must contain only pieces destinating within the NDC/RPDC as shown in L601. * * *

* * * * *

8.11 Bundle Reallocation To Protect SCF/LPC/RPDC Pallet for Periodicals Flats and Nonstandard Parcels and USPS Marketing Mail Flats on Pallets

* * * * *

8.11.3 Reallocation of Bundles if Optional 3-Digit Pallets Are Prepared

* * * * *

[Revise the last sentence of 8.11.3(d) to read as follows:]

d. * * * Mail that falls beyond the SCF/RPDC pallet level must be placed on the next appropriate pallet (ADC, ASF/RPDC, NDC/RPDC or MNDC/MRPDC) or in the next appropriate sack (nonstandard parcels) or flat tray.

8.11.4 Reallocating of Bundles if Optional 3-Digit Pallets Are Not Prepared

* * * * *

[Revise the last sentence of 8.11.4(b) to read as follows:]

b. * * * Mail that falls beyond the SCF/RPDC pallet level must be placed on the next appropriate pallet (ADC, ASF/RPDC, NDC/RPDC, or MNDC/MRPDC) or in the next appropriate sack (nonstandard parcels) or flat tray.

* * * * *

[Revise the heading of 8.12 to read as follows:]

8.12 Bundle Reallocation To Protect ADC Pallet for Periodicals Flats and Nonstandard Parcels on Pallets

8.12.1 Basic Standards

The following apply:

[Revise items 8.12.1(a) through (c) to read as follows:]

a. Bundle reallocation to protect the ADC pallet is an optional preparation method authorized for mailers using PAVE-certified presort software and may be used to create pallets under the standards in 8.12.2 and 8.12.3. Presort software determines if mail for an ADC service area falls beyond the ADC level if all finer level pallets are prepared.

b. Reallocation is performed only when there is mail for the ADC service area that falls beyond the ADC pallet level (e.g., to sacks or flat trays).

c. Reallocate only the minimum number of bundles necessary to create an ADC pallet at the minimum required weight.

8.12.2 General Rules

Reallocation rules are as follows:

[Revise 8.12.2(a) to read as follows:]

a. Bundle preparation is not affected by the reallocation process. Reallocate only complete bundles and only the minimum number of bundles necessary to create an ADC pallet meeting the minimum pallet weight. Based on the weight of individual pieces within a bundle and bundling parameters, the weight of mail that is reallocated may be slightly more than the minimum volume required to create an ADC pallet.

[Revise the first sentence of 8.12.2(b) to read as follows:]

b. Reallocate only bundles of an SCF/LPC (letters, flats)/RPDC (parcels) pallet from the same city and state as the ADC (L005, Column B). * * *

* * * * *

8.16 Copalletized Letter-Size and Flat-Size Pieces—Periodicals or USPS Marketing Mail

* * * * *

8.16.2 Periodicals

* * * * *

[Revise 8.16.2c(4) to read as follows:]

4. Documentation showing that 5-digit, 3-digit, SCF/LPC, and ADC pallets are prepared when the applicable minimum volume is developed in the copalletized mailing for these destinations.

* * * * *

9.0 Combining Bundles of Automation and Nonautomation Flats in Flat Trays and Sacks

* * * * *

9.1.4 Tray Preparation and Labeling

[Revise the introductory paragraph of 9.1.4(d) to read as follows:]

d. ADC, required, full trays only (no overflow trays); use L004 to determine ZIP Codes served by each ADC; labeling: * * *

* * * * *

9.3 USPS Marketing Mail

* * * * *

9.3.5 Flat Tray/Sack Preparation and Labeling

* * * * *

[Revise the introductory paragraph of 9.3.5(d) to read as follows:]

d. ADC, required, full tray/125-piece/15-pound minimum; use L004 to determine ZIP Codes served by each ADC; labeling: * * *

* * * * *

10.0 Merging Bundles of Flats Using the City State Product

* * * * *

10.1.5 Pallet Preparation and Labeling

* * * * *

g. SCF/LPC through mixed ADC, use 8.10.2h through 8.10.2k, as applicable, to prepare and label the following pallet levels:

[Revise 10.1.5g(2) to read as follows:]

2. ADC;

* * * * *

10.2 USPS Marketing Mail

* * * * *

10.2.5 Pallet Preparation and Labeling

* * * * *

[Revise the third and fourth sentences of 10.2.5(h) to read as follows:]

h. * * * ADC bundles must be sorted to ASF/RPDC pallets based on the “label to” ZIP Code for the ADC destination of the bundle in L004. At the mailer's option, appropriate mixed ADC bundles must be sorted to ASF/RPDC pallets based on the “label to” ZIP Code for the ADC destination of the bundle in L010. * * *

* * * * *

12.0 Merging Bundles of Flats on Pallets Using a 5 Percent Threshold

12.1 Periodicals

* * * * *

12.1.5 Pallet Preparation and Labeling

* * * * *

[Revise item 12.1.5(h) to read as follows:]

h. SCF/LPC through mixed ADC, use 8.10.2h through 8.10.2k, as applicable, to prepare and label SCF/LPC, ADC, Origin Mixed ADC (OMX) and mixed ADC pallet levels.

12.2 USPS Marketing Mail

* * * * *

12.2.3 Pallet Preparation and Labeling

* * * * *

[Revise the third and fourth sentences of 12.2.3(h) to read as follows:]

h. ADC bundles must be sorted to ASF/RPDC pallets based on the “label to” ZIP Code for the ADC destination of the bundle in L004. At the mailer's option, appropriate mixed ADC bundles must be sorted to ASF/RPDC pallets based on the “label to” ZIP Code for the ADC destination of the bundle in L010.

* * * * *

[Revise the third sentence of 12.2.3(i) to read as follows:]

i. * * * At the mailer's option, appropriate mixed ADC bundles must be sorted to NDC/RPDC pallets based on the “label to” ZIP Code for the ADC destination of the bundle in L010. * * *

* * * * *

13.0 Merging Bundles of Flats on Pallets Using the City State Product and a 5-Percent Threshold

13.1 Periodicals

* * * * *

13.1.5 Pallet Preparation and Labeling

* * * * *

h. SCF/LPC through mixed ADC, use 8.10.2h through 8.10.2k, as applicable, to prepare and label the following pallet levels:

[Revise item 13.1.5h(2) to read as follows:]

a. ADC;

* * * * *

15.0 Combining USPS Marketing Mail Flats, Bound Printed Matter Flats, and Periodicals Flats

15.1 Basic Standards

* * * * *

15.1.10 Other Periodicals Pricing

[Revise items 15.1.10(a) through (c) to read as follows:]

a. The bundle prices applicable to the ADC container level will be applied to the ASF/NDC/RPDC container levels.

b. The container prices applicable to the ADC pallet level will apply to the ASF/NDC/RPDC pallet levels.

c. The bundle price applicable to the ADC bundle placed on the ADC container level will apply to mixed ADC bundles placed on mixed NDC pallets.

* * * * *

16.0 Plant-Load Mailings

* * * * *

16.7 Interdistrict Plant-Loaded Shipments

* * * * *

16.7.2 First-Class Mail

[Revise item 16.7.2(b) to read as follows:]

b. After making up all possible SCF/LPC vehicles, if there is enough mail for the same ADC service area to fill 60 percent or more of a vehicle by weight or by cube, the mailer must prepare a direct vehicle for that ADC.

16.7.3 Periodicals

* * * * *

[Revise items 16.7.2(b) and (c) to read as follows:]

b. After loading all possible SCF/LPC (letters, flats)/RPDC (parcels) vehicles, if there is enough mail for the same ADC service area to fill 60 percent or more of a vehicle by weight or by cube, the mailer must prepare a direct vehicle for that ADC.

c. After loading all possible SCF/LPC (letters, flats)/RPDC (parcels) and ADC vehicles, if there is enough mail for the same transfer hub service area to fill 60 percent or more of a vehicle by weight or by cube, the mailer must prepare a direct vehicle for that transfer hub.

* * * * *

16.7.7 Sufficient Volume

* * * * *

[Revise item 16.7.7(a) to read as follows:]

a. For First-Class Mail, if there is enough mail for the same ADC service area to fill 60 percent or more of a vehicle by weight or by cube, the mailer must prepare a direct vehicle for the ADC.

* * * * *

18.0 Priority Mail Express Open and Distribute and Priority Mail Open and Distribute

* * * * *

18.5 Preparation

* * * * *

18.5.2 Priority Mail Express and Priority Mail Tray and Sack Labels

[Revise item 18.5.2a(3) to read as follows:]

3. For ADC distribution, use the destination in L004, Column B.

* * * * *

18.5.3 Tags 257 and 267—Priority Mail Express Open and Distribute

[Revise item 18.5.3a to read as follows:]

a. Attach yellow Tag 267 or yellow Tag 267-EVS to sacks used as Priority Mail Express Open and Distribute containers destined to a NDC/RPDC, ASF/RPDC, ADC, or SCF/RPDC facility.

* * * * *

18.5.4 Tags 161 and 190—Priority Mail Open and Distribute

[Revise item 18.5.4a to read as follows:]

a. Attach green Tag 161 or green Tag 161-EVS to sacks used as Priority Mail Open and Distribute containers to a NDC/RPDC, ASF/RPDC, ADC, or SCF/RPDC facility.

* * * * *

[Revise the heading of 18.5.10 to read as follows:]

18.5.10 ADC Address Labels

[Revise the text of 18.5.10 to read as follows:]

For the ADC address label:

a. Use “ADC” followed by the city, state, and ZIP Code in the “Drop Entry Point View” file on the USPS FAST website, https://fast.usps.com.

b. Directly below the ADC facility name, specify the class and processing category of the enclosed mail.

c. See Exhibit 18.5.10 for an example of an ADC address label.

[Revise the heading for Exhibit 18.5.10 to read as follows:]

Exhibit 18.5.10 ADC Address Label

* * * * *

21.0 Optional Combined Parcel Mailings

* * * * *

21.2 Price Eligibility

* * * * *

21.2.2 Price Application

* * * * *

b. Bound Printed Matter (BPM) parcels qualify for single-piece prices or Presorted Bound Printed Matter prices as follows:

[Revise items 21.2.2b(1) and (2) to read as follows:]

1. Presorted prices for BPM pieces prepared in other than MXD ADC and MXD NDC/RPDC containers when the combined mailing contains at least 300 pieces of BPM.

2. Nonpresorted prices for pieces prepared in MXD ADC and MXD NDC/RPDC containers, and when the combined mailing contains less than 300 pieces of BPM.

* * * * *

c. Media Mail parcels qualify for single-piece, basic, or 5-digit prices as follows:

* * * * *

[Revise items 21.2.2c(2) and (3) to read as follows:]

2. Basic prices for pieces prepared in 3-digit, ADC, and NDC/RPDC, containers when the combined mailing contains at least 300 pieces of Media Mail.

3. Single-piece prices for pieces prepared in MXD ADC and MXD NDC/RPDC containers, and when the combined mailing contains less than 300 pieces of Media Mail.

d. Library Mail parcels qualify for single-piece, basic, or 5-digit prices as follows:

* * * * *

[Revise items 21.2.2d(2) and (3) to read as follows:]

2. Basic prices for pieces prepared in 3-digit, ADC, and NDC/RPDC, containers when the combined mailing contains at least 300 pieces of Library Mail.

3. Single-piece prices for pieces in MXD ADC and MXD NDC/RPDC containers, and when the combined mailing contains less than 300 pieces of Library Mail.

[Revise item 21.2.2e to read as follows:]

e. Parcel Select prices are based on the destination entry for pieces in 5-digit, 3-digit, ADC, and NDC/RPDC containers.

21.3 Mail Preparation

* * * * *

21.3.3 Combining USPS Marketing Mail, Parcel Select, and Package Services APPS-Machinable Parcels

* * * * *

[Revise the column of the table in 21.3.3 titled “ADC/RPDC” to read as “ADC”]

[Revise the column of the table in 21.3.3 titled “Mixed ADC/RPDC” to read as “Mixed ADC”]

* * * * *

21.3.4 Combining USPS Marketing Mail, Parcel Select, and Package Services Parcels (Not APPS-Machinable)

* * * * *

[Revise the column of the table in 21.3.4 titled “ADC/RPDC” to read as “ADC”]

[Revise the column of the table in 21.3.4 titled “Mixed ADC/RPDC” to read as “Mixed ADC”]

* * * * *

Kevin Rayburn,
Attorney, Ethics and Legal Compliance.

[FR Doc. 2024-31225 Filed 12-30-24; 8:45 am]

BILLING CODE 7710-12-P